DEPARTMENT OF STATE

[Public Notice 11869]

30-Day Notice of Proposed Information Collection: Nonimmigrant Treaty Trader/Investor Application

ACTION: Notice of request for public comment and submission to OMB of proposed collection of information.

SUMMARY: The Department of State has submitted the information collection described below to the Office of Management and Budget (OMB) for approval. In accordance with the Paperwork Reduction Act of 1995, we are requesting comments on this collection from all interested individuals and organizations. The purpose of this Notice is to allow 30 days for public comment.

DATES: Submit comments up to October 31, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, to Tonya Whigham who may be reached at PRA_BurdenComments@state.gov or at 202-485-7586.

SUPPLEMENTARY INFORMATION:

• Title of Information Collection: Nonimmigrant Treaty Trader/Investor Application.

• OMB Control Number: 1405-0101.

• Type of Request: Extension of a Currently Approved Collection.

• Originating Office: CA/VO.

• Form Number: DS-156E.

• Respondents: Applicants for E nonimmigrant treaty trader/investor visas.

• Estimated Number of Respondents: 50,000.

• Estimated Number of Responses: 50,000.

• Average Time per Response: 4 hours.

• Total Estimated Burden Time: 200,000.

• Frequency: Once per application.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Section 101(a)(15)(E) of the Immigration and Nationality Act (INA), 8 U.S.C. 1101(a)(15)(E), provides for the nonimmigrant classification of a national of a country with which the United States maintains an appropriate treaty of commerce and navigation who is coming to the United States to: (i) carry on substantial trade, including trade in services or technology, principally between the United States and the treaty country; or (ii) develop and direct the operations of an enterprise in which the national has invested, or is actively in the process of investing a substantial amount of capital. The Department requires all E-1 treaty trader visa applicants and E-2 treaty investor applicants, if the applicant is an Executive, Manager, or Essential Employee, to submit Form DS-156E, which collects information necessary to determine an applicant's qualifications and eligibility for such a visa.

Methodology

After completing Form DS-160, Online Nonimmigrant Visa Application, applicants will complete the DS-156E online, print the form, and submit it in person or via mail.

Julie M. Stufft,
Deputy Assistant Secretary, Bureau of Consular Affairs, Department of State.

[FR Doc. 2022-21199 Filed 9-29-22; 8:45 am]

BILLING CODE 4710-06-P